POSTAL REGULATORY COMMISSION

[Docket No. CP2009-31; Order No. 357]

New Postal Product

AGENCY: Postal Regulatory Commission.

ACTION: Notice.

SUMMARY: The Commission is noticing a recently-filed Postal Service filing of a change in prices for Priority Mail Contract 7 (MC2009-25). This notice addresses procedural steps associated with the filing.

DATES: Comments are due: December 21, 2009.

ADDRESSES: Submit comments electronically via the Commission's Filing Online system at http://www.prc.gov. Commenters who cannot submit their views electronically should contact the person identified in “FOR FURTHER INFORMATION CONTACT” by telephone for advice on alternatives to electronic filing.

FOR FURTHER INFORMATION CONTACT: Stephen L. Sharfman, General Counsel, 202-789-6820 or stephen.sharfman@prc.gov.

SUPPLEMENTARY INFORMATION:

I. Introduction

II. Notice of Filing

III. Ordering Paragraphs

I. Introduction

On December 10, 2009, the Postal Service filed notice of a change in prices pursuant to an amendment to Priority Mail Contract 7.¹ The Notice includes three attachments: A redacted version of the amendment to Priority Mail Contract 7 as Attachment A; a certified statement of compliance with 39 U.S.C. 3633(a) as Attachment B; and an application for non-public treatment and a redacted version of the supporting financial documentation as Attachment C. In addition, the Postal Service filed the unredacted amendment to the contract and supporting financial documentation under seal. Notice at 1.

¹ Notice of United States Postal Service of Change in Prices Pursuant to Amendment to Priority Mail Contract 7, December 10, 2009 (Notice).

Substantively, the Notice seeks approval of an amendment to the prices for Priority Mail Contract 7 while keeping the contract's existing duration. Notice, Attachment A.² The Postal Service states that the price amendment will become effective the day the Commission completes its review of the Notice. Notice at 1.

² Priority Mail Contract 7 was originally approved, along with Priority Mail Contracts 6, and 8 through 10 in this docket by PRC Order No. 226, Order Concerning Priority Mail Contracts 6 through 10, June 19, 2009.

II. Notice of Filings

The Commission reopens Docket No. CP2009-31 for consideration of the issues raised by the Notice. Interested persons may submit comments on whether these recent Postal Service's filings in this docket are consistent with the policies of 39 U.S.C. 3632, 3633, or 3642 and 39 CFR part 3015. Comments are due no later than December 21, 2009. The public portions of these filings can be accessed via the Commission's Web site (http://www.prc.gov).

The Commission appoints Paul L. Harrington to serve as Public Representative in this proceeding.

III. Ordering Paragraphs

It is ordered:

1. The Commission reopens Docket No. CP2009-31 for consideration of the matters raised by the amendment to Priority Mail Contract 7.

2. Pursuant to 39 U.S.C. 505, Paul L. Harrington is appointed to serve as officer of the Commission (Public Representative) to represent the interests of the general public for this aspect of this docket.

3. Comments by interested persons in these proceedings are due no later than December 21, 2009.

4. The Secretary shall arrange for publication of this notice and order in the Federal Register.

By the Commission.
Shoshana M. Grove,
Secretary.

[FR Doc. E9-30072 Filed 12-17-E9; 8:45 am]

BILLING CODE 7710-FW-S